DEPARTMENT OF THE TREASURY

Office of the Comptroller of the Currency

[OCC Charter Number 700165]

Mutual Savings and Loan Association Metairie, Louisiana; Approval of Conversion Application

Notice is hereby given that on November 8, 2024, the Office of the Comptroller of the Currency (OCC) approved the application of Mutual Savings and Loan Association Metairie, Louisiana, to convert to the stock form of organization. Copies of the application are available on the OCC website at the FOIA Reading Room (https://foia-pal.occ.gov/palMain.aspx) under Mutual to Stock Conversion Applications. If you have any questions, please contact Licensing Activities at (202) 649-6260.

(Authority: 12 CFR 192.205).

Dated: November 8, 2024.
By the Office of the Comptroller of the Currency.
Stephen A. Lybarger,
Deputy Comptroller for Licensing.

[FR Doc. 2024-26680 Filed 11-14-24; 8:45 am]

BILLING CODE 4810-33-P